DEPARTMENT OF COMMERCE

National Oceanic and Atmospheric Administration

[RTID 0648-XA673]

Index Based Methods and Harvest Control Rules Research Track Assessment Public Meeting

AGENCY: National Marine Fisheries Service (NMFS), National Oceanic and Atmospheric Administration (NOAA), Commerce.

ACTION: Notice of public meeting.

SUMMARY: NMFS and the Center for Independent Experts (CIE) Panel will convene the Research Track Assessment Peer Review Meeting for the purpose of reviewing Index Based Methods and Harvest Control Rules. The Research Track Assessment Peer Review is a formal scientific peer-review process for evaluating and presenting stock assessment results to managers for fish stocks in the offshore U.S. waters of the northwest Atlantic. Assessments are prepared by Stock Assessment Workshop (SAW) working groups and reviewed by an independent panel of stock assessment experts from the Center of Independent Experts (CIE). The public is invited to attend the presentations and discussions between the review panel and the scientists who have participated in the stock assessment process.

DATES: The public portion of the Research Track Assessment Peer Review Meeting will be held from December 7, 2020-December 11, 2020. The meeting will commence on December 11, 2020 at 3 p.m. Eastern Standard Time. Please see SUPPLEMENTARY INFORMATION for the daily meeting agenda.

ADDRESSES: The meeting will be held via Google Meet (https://meet.google.com/urc-hmkh-jdw).

FOR FURTHER INFORMATION, CONTACT: Michele Traver, 508-495-2195; email: michele.traver@noaa.gov.

SUPPLEMENTARY INFORMATION: For further information, please visit the NEFSC website at https://www.fisheries.noaa.gov/region/new-england-mid-atlantic. For additional information about the assessment process and the stock assessment peer review, please visit the NMFS/NEFSC SAW web page at https://www.fisheries.noaa.gov/new-england-mid-atlantic/population-assessments/fishery-stock-assessments-new-england-and-mid-atlantic.

Daily Meeting Agenda—Research Track Peer Review Meeting (Subject to Change; All Times are Approximate and May Be Changed at the Discretion of the Peer Review Chair)

Monday, December 7, 2020

Time | Activity | Lead
8 a.m.-8:30 a.m | Welcome/Logistics Introductions/Process | Russ Brown/ Michele Traver/Panel Chair.
8:30 a.m.-9 a.m | Material Introduction and Background | Chris Legault, WG Chair.
9 a.m.-10 a.m | TOR #1 | Chris Legault, WG Chair.
10 a.m.-10:15 a.m | Break
10:15 a.m.-11:15 a.m | TOR #1 cont | Chris Legault, WG Chair.
11:15 a.m.-11:45 a.m | Discussion/Review/Summary | Review Panel.
11:45 a.m.-12 p.m | Public Comment | Public.
12 p.m.-1 p.m | Lunch
1 p.m.-2:15 p.m | TOR #2 | Chris Legault, WG Chair.
2:15 p.m.-2:45 p.m | Discussion/Review/Summary | Review Panel.
2:45 p.m.-3 p.m | Public Comment | Public.
3 p.m | Adjourn

Tuesday, December 8, 2020

Time | Activity | Lead
8 a.m.-8:15 a.m | Brief Overview and Logistics | Michele Traver/Panel Chair.
8:15 a.m.-9:15 a.m | TOR #2 cont | Chris Legault, WG Chair.
9:15 a.m.-10:15 a.m | TOR #3 | Chris Legault, WG Chair.
10:15 a.m.-10:30 a.m | Break
10:30 a.m.-11:30 a.m | TOR #3 cont | Chris Legault, WG Chair.
11:30 a.m.-12 p.m | Discussion/Review/Summary | Review Panel.
12 p.m.-12:15 p.m | Public Comment | Public.
12:15 p.m.-1:15 p.m | Lunch
1:15 p.m.-2:15 p.m | TOR #4 | Chris Legault, WG Chair.
2:15 p.m.-2:45 p.m | Discussion/Review/Summary | Review Panel.
2:45 p.m.-3 p.m | Public Comment | Public.
3 p.m | Adjourn

Wednesday, December 9, 2020

Time | Activity | Lead
8 a.m.-8:15 a.m | Brief Overview and Logistics | Michele Traver/ Panel Chair.
8:15 a.m.-9:15 a.m | TOR #4 cont | Chris Legault, WG Chair.
9:15 a.m.-10:15 a.m | TOR #5 | Chris Legault, WG Chair.
10:15 a.m.-10:30 a.m | Break
10:30 a.m.-11:30 a.m | TOR #5 cont | Chris Legault, WG Chair.
11:30 a.m.-12 p.m | Discussion/Review/Summary | Review Panel.
12 p.m.-12:15 p.m | Public Comment | Public.
12:15 p.m.-1:15 p.m | Lunch
1:15 p.m.-2:15 p.m | TOR #6 cont | Chris Legault, WG Chair.
2:15 p.m.-2:45 p.m | Discussion/Review/Summary | Review Panel.
2:45 p.m.-3 p.m | Public Comment | Public.
3 p.m | Adjourn

Thursday, December 10, 2020

Time | Activity | Lead
8 a.m.-8:15 a.m | Brief Overview and logistics | Michele Traver/Panel Chair.
8:15 a.m.-9:15 a.m | TOR #6 cont | Chris Legault, WG Chair.
9:15 a.m.-10:15 a.m | Discussion/Review/Summary | Review Panel.
10:15 a.m.-10:30 a.m | Break
10:30 a.m.-11:30 a.m | Discussion/Follow-ups | Review Panel.
11:30 a.m.-11:45 a.m | Public Comment | Public.
11:45 a.m.-12:45 p.m | Lunch
12:45 p.m.-3 p.m | Report Writing | Review Panel.
5 p.m | Adjourn

Friday, December 11, 2020

Time | Activity | Lead
8 a.m.-3 p.m | Report Writing | Review Panel.
3 p.m | Adjourn

The meeting is open to the public; however, during the `Report Writing' session on Thursday, December 10th and Friday, December 11th, the public should not engage in discussion with the Peer Review Panel.

Special Accommodations

This meeting is physically accessible to people with disabilities. Special requests should be directed to Michele Traver, 508-495-2195, at least 5 days prior to the meeting date.

Authority: 16 U.S.C. 1801 et seq.

Dated: November 20, 2020.
Jennifer M. Wallace,
Acting Director, Office of Sustainable Fisheries, National Marine Fisheries Service.

[FR Doc. 2020-26137 Filed 11-30-20; 8:45 am]

BILLING CODE 3510-22-P